DEPARTMENT OF HOUSING AND URBAN DEVELOPMENT

[Docket No. FR-5828-N-14]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; COAST GUARD: Commandant, United States Coast Guard, Attn: Jennifer Stomber, 2703 Martin Luther King Jr. Avenue SE., Stop 7741, Washington, DC 20593-7714; (202) 475-5609; ENERGY: Mr. David Steinau, Department of Energy, Office of Property Management, OECM MA-50, 4B122, 1000 Independence Ave. SW., Washington, DC 20585 (202) 287-1503; INTERIOR: Mr. Michael Wright, Acquisition & Property Management, Department of the Interior, 3960 N. 56th Ave. #104, Hollywood, FL. 33021; (443) 223-4639; NASA: Mr. Frank T. Bellinger, Facilities Engineering Division, National Aeronautics & Space Administration, Code JX, Washington, DC 20546, (202) 358-1124; NAVY: Mr. Steve Matteo, Department of the Navy, Asset Management Division, Naval Facilities Engineering Command, Washington Navy Yard, 1330 Patterson Ave. SW., Suite 1000, Washington, DC 20374; (202) 685-9426; (These are not toll-free numbers).

Dated: March 26, 2015.
Brian P. Fitzmaurice
Director, Division of Community Assistance, Office of Special Needs Assistance Programs.

Title V, Federal Surplus Property Program, Federal Register Report For 04/03/2015

Suitable/Available Properties

Building

California

Fredrick Pump Tower

Fallen Leaf Lake Rd.

South Lake Tahoe CA 96150

Landholding Agency: Agriculture

Property Number: 15201510017

Status: Excess

Directions: 051974043

Comments: off-site removal only; 75+ yrs.-old; water tower; vacant 60+ months; poor conditions; prior approval to access is required; contact Agriculture for more information.

Kansas

Storage Bldg. WEL 051/RPUD 03.55396

(KSU) AG Farm Kimball Ave.

Manhattan KS 66502

Landholding Agency: Agriculture

Property Number: 15201510021

Status: Excess

Directions: 543000B051

Comments: 49+ yrs. old; 4,000 sq. ft. storage; sheet metal; 4+ mons. vacant; windows boarded up; contact Agric. for more information.

Louisiana

Storage Building; 643500B022

RPUID: 03.778

07345—Southern Regional Research Center

New Orleans LA 70124

Landholding Agency: Agriculture

Property Number: 15201510018

Status: Excess

Directions: 1100 Robert E. Lee Blvd.

Comments: off-site removal only; 240 sq. ft.; 2+ months vacant; termite damage & leaking roof; contact Agriculture for more information.

Southern Regional Research Ctr

1100 Robert E. Lee Blvd.

New Orleans LA 70124

Landholding Agency: Agriculture

Property Number: 15201510019

Status: Excess

Directions: 643500B021-RPUID: 03.776 (240 sq. ft.); 643500B023-RPUID: 03.774 (120 sq. ft.)

Comments: off-site removal only; 15+ yrs.-old; storage; severe termite damage & structural damage; contact Agriculture for more information.

Trailer; 643500B029

RPUID: 10485054320

07345-Southern Regional Research Center

New Orleans LA 70124

Landholding Agency: Agriculture

Property Number: 15201510020

Status: Excess

Directions: 1100 Robert E. Lee Blvd.

Comments: off-site removal only; 720 sq. ft.; storage; 2+ months vacant; termite & structural damage; contact Agriculture for more information.

Massachusetts

Beatteay House & Garage

1133 Lexington Rd.

Concord MA 02742

Landholding Agency: Interior

Property Number: 61201510003

Status: Excess

Directions: House (1,400 sq. ft.); Garage (800 sq. ft.)

Comments: off- site removal only; removal may be extremely difficult due to size/type/condition; residential; poor conditions; asbestos present; contact Interior for more information.

Oregon

27 Buildings

Rager Ranger Station

Paulina OR 97751

Landholding Agency: Agriculture

Property Number: 15201510013

Status: Unutilized

Directions: 1021(RPUID 1238.004991), 1023(1239.004991), 1024(1240.004991), 1052(1241.004991), 1054(1242.004991), 1055(1243.004991), 1058(1244.004991), 1059(1245.004991), 1060(1246.004991), 1062(1247.004991), 1063(1248.004991), 1064(1249.004991), 1065(1250.004991), 1066(1251.004991), 1068(1253.004991), 1069(1254.004991), 1070(1255.004991), 2003(1091.004991), 2102(1270.004991), 2203(1271.004991), 2308(1274.004991), 2321(1275.004991),

CORRECTION: Building Numbers 2322(1276.004991), 2505(1280.004991), 5001(1604.004991), 5002(1606.004991), 5003(1608.004991) were missing from the Friday March 13, 2015 Federal Register.

Comments: off-site removal only; no future agency need; sq. ft. varies; poor conditions; significant repairs needed; contamination; contact Agriculture for more details on a specific property listed above.

Virginia

Usher/U.S. Park Police Trailer

1551 Trap Rd.

Vienna VA 22182

Landholding Agency: Interior

Property Number: 61201510004

Status: Excess

Comments: off-site removal only; 840 sq. ft.; residential; deteriorating; repair a must; water damage; mold; no water or sanitary facility; contact Interior for more information.

Unsuitable Properties

Building

California

4 Buildings

4800 Oak Grove Drive

Pasadena CA 91109

Landholding Agency: NASA

Property Number: 71201510019

Status: Excess

Directions: Trailer 1722; 1723; 1724; 1725

Comments: public access denied & no alternative method to gain access w/out compromising national security.

Reasons: Secured Area

Florida

6 Buildings

Cape Canaveral Air Force Station

Cape Canaveral FL 32925

Landholding Agency: NASA

Property Number: 71201510017

Status: Unutilized

Directions: 21; 24; 27; 18; 77; 127

Comments: public access denied and no alternative method to gain access without compromising national security.

Reasons: Secured Area

OLF Holley

NAS Whiting Field

7801 East Bay Blvd.

Navarre FL 32566

Landholding Agency: Navy

Property Number: 77201510016

Status: Excess

Comments: public access denied and no alternative method to gain access without compromising national security.

Reasons: Secured Area

Georgia

REPO

(Joint use with GA Power Co.)

Kings Bay GA 31547

Landholding Agency: Navy

Property Number: 77201510015

Status: Unutilized

Comments: property located in floodway—not corrected or contained; public access denied and no alternative method to gain access without compromising national security.

Reasons: Floodway; Secured Area

Massachusetts

2 Buildings

4700 Greenway Rd.

Forestdale MA 02542

Landholding Agency: Coast Guard

Property Number: 88201510007

Status: Excess

Directions: 15084; 15085

Comments: public access denied and no alternative method to gain access without compromising national security.

Reasons: Secured Area

Nevada

14 Buildings

Mercury Hwy. on the Nevada National Security Site

Mercury NV 89093

Landholding Agency: Energy

Property Number: 41201510003

Status: Excess

Directions: ID #997008; 997007; 993291; 993292; 993293; 997003; 997006; 997009; 997010; 997011; 997012; 997013; 997014; 997015;

Comments: highly classified secured area; Public access denied & no alternative method to gain access w/out compromising national security.

Reasons: Secured Area

Tennessee

3 Buildings

Y-12 National Security Complex

Oak Ridge TN 37831

Landholding Agency: Energy

Property Number: 41201510004

Status: Unutilized

Directions: Building 9949.BC; 9949.BG; 9949.69

Comments: public access denied & no alternative method to gain access w/out compromising national security.

Reasons: Secured Area

Virginia

3 Buildings

NASA Langley Research Ctr.

Hampton VA 23681-0001

Landholding Agency: NASA

Property Number: 71201510020

Status: Excess

Directions: #1222; 1275; 1283

Comments: public access denied & no alternative method to gain access w/out compromising national security.

Reasons: Secured Area

2 Buildings

7323 Telegraph Rd.

Alexandria VA 20598

Landholding Agency: Coast Guard

Property Number: 88201510005

Status: Excess

Directions: Tower Hut (T03) 49478; Mars Building (L08) 25743

Comments: public access denied and no alternative to gain access without compromising national security.

Reasons: Secured Area

Washington

B-6409 General Warehouse

Naval Base Kitsap Bangor (BA)

Kitsap WA 98337

Landholding Agency: Navy

Property Number: 77201510014

Status: Unutilized

Comments: public access denied and no alternative method to gain access without compromising national security.

Reasons: Secured Area

Land

Colorado

1.5 Acres

Navajo Unit of the Colorado

River Project

Archuleta Co. CO

Landholding Agency: Interior

Property Number: 61201510005

Status: Excess

Comments: located between private property; no established right of entry to access.

Reasons: Not accessible by road

[FR Doc. 2015-07327 Filed 4-2-15; 8:45 am]

BILLING CODE 4210-67-P